DEPARTMENT OF VETERANS AFFAIRS

38 CFR Part 78

RIN 2900-AR16

Staff Sergeant Parker Gordon Fox Suicide Prevention Grant Program

AGENCY: Department of Veterans Affairs.

ACTION: Interim final rule; correction.

SUMMARY: On March 10, 2022, the Department of Veterans Affairs published in the Federal Register an interim final rule to implement a new authority requiring VA to implement a three-year community-based grant program to award grants to eligible entities to provide or coordinate the provision of suicide prevention services to eligible individuals and their families for the purpose of reducing veteran suicide. This correction addresses minor technical and inadvertent errors in the published interim final rule.

DATES: This correction is effective April 11, 2022.

ADDRESSES: Comments must be submitted through www.Regulations.gov. Comments received will be available at regulations.gov for public viewing, inspection or copies.

FOR FURTHER INFORMATION CONTACT: Sandra Foley, Supervisory Grants Manager—Suicide Prevention Program, Office of Mental Health and Suicide Prevention, 11MHSP, 810 Vermont Avenue NW, Washington, DC 20420, 202-502-0002 (This is not a toll-free telephone number),VASSGFoxGrants@va.gov.

SUPPLEMENTARY INFORMATION: VA is correcting technical and inadvertent errors in its interim final rule on the Staff Sergeant Parker Gordon Fox Suicide Prevention Grant Program published on March 10, 2022, in the Federal Register (FR) at 87 FR 13806.

In FR Rule Doc. No. 2022-04477, beginning on page 13806 in the March 10, 2022 issue, make the following corrections:

Corrections

1. On page 13836, column 1, line 14, in § 78.5, remove “veterans” and add “veteran” in its place.

2. On page 13836, column 2, line 35, in § 78.15(a)(3)(ii), remove “coordination the” and add “coordination of the” in its place.

3. On page 13837, column 2, line 68 through column 3, line 2, in § 78.25(b)(2)(iii), remove “, including language assistance needs of limited English proficient individuals”.

4. On page 13839, column 2, line 24, § 78.50(b), remove “is” and add “are” in its place.

5. On page 13839, column 2, line 37, § 78.50(c), remove “is” and add “are” in its place.

6. On page 13839, column 2, line 45, § 78.50(d), remove “is” and add “are” in its place.

7. On page 13839, column 3, line 20, § 78.60(b), remove “is” and add “are” in its place.

8. On page 13839, column 3, line 40, § 78.60(c), remove “is” and add “are” in its place.

Date: March 15, 2022.
Consuela Benjamin,
Regulations Development Coordinator, Office of Regulation Policy & Management, Office of General Counsel, Department of Veterans Affairs.

[FR Doc. 2022-05849 Filed 3-21-22; 8:45 am]

BILLING CODE 8320-01-P